DEPARTMENT OF COMMERCE

Office of the Secretary

[Docket Number 240729-0207]

RIN 0605-XZ001

Department of Commerce Open Government Plan

AGENCY: Office of the Secretary, Department of Commerce.

ACTION: Notice and request for comments (RFC).

SUMMARY: The U.S. Department of Commerce's Office of Privacy and Open Government requests public comment on improvements for the presentation of the Department's eighth Open Government Plan. We are committed to creating opportunities for meaningful civic engagement and public participation and welcome public input on how to improve upon the organization, scope, form, and format of the Department's seventh Open Government Plan document, how to enhance readability and reach a broader audience, and how best to convey in the document how the Department's eighth Open Government Plan incorporates themes from the fifth U.S. Open Government National Action Plan that was issued on December 28, 2022.

DATES: Comments on this notice must be submitted on or before September 6, 2024.

ADDRESSES: You may submit comments via the Federal eRulemaking Portal at https://www.regulations.gov/. Follow the instructions for submitting comments. All public comments received are subject to the Freedom of Information Act and will be posted in their entirety at https://www.regulations.gov/, including any personal and business confidential information provided. Do not include any information you would not like to be made publicly available.

Instructions: Response to this RFC is voluntary. Responses should include the name of the person(s) or organization(s) filing the response. Responses containing references, studies, research, and other empirical data that are not widely published should include copies of or electronic links to the referenced materials. Please do not submit copyrighted material. Responses containing profanity, vulgarity, threats, or other inappropriate language or content will not be considered. Any information obtained from this RFC is intended to be used by the Government on a non-attribution basis. The Department of Commerce will not respond to individual submissions.

FOR FURTHER INFORMATION CONTACT: Requests for additional information should be directed to open@doc.gov with “Open Government Plan RFC” in the subject line, or by mail to Office of Privacy and Open Government, U.S. Department of Commerce, Attn: Jennifer Goode, Ph.D., Deputy Director for Open Government and Departmental Privacy Act Officer, 1401 Constitution Ave. NW, Mail Stop 61013, Washington, DC 20230, (202) 482-1190.

SUPPLEMENTARY INFORMATION: In accordance with OMB Memorandum M-09-12, President's Memorandum on Transparency and Open Government—Interagency Collaboration, OMB Memorandum M-10-06, Open Government Directive, and OMB Memorandum M-16-16, 2016 Agency Open Government Plans, the Department continues to develop, publish, and update its Open Government Plan every two years. The Plan describes how the Department continuously strives to improve transparency and integrate public participation and collaboration into its activities. In September 2022, the Department published the seventh version of its Open Government Plan, building on the Department's long history of innovative approaches to data dissemination and highlighting the adoption of new tools and technology to facilitate the principles of open government.

Now, as the Department develops the eighth version of its Open Government Plan, we welcome public input on how to improve upon the approach we took for the presentation of the seventh version of the Open Government Plan, including how to improve the organization, scope, form and format of the plan; enhance readability; and reach a broader audience. We also welcome public input on how best to convey how the Department will incorporate the following themes from the fifth U.S. Open Government National Action Plan, issued on December 28, 2022:

• improving access to government data, research, and information;

• increasing civic space within which to engage with the public;

• transforming government service delivery;

• countering corruption and ensuring government integrity and accountability to the public; and

• ensuring equal justice under the law.

Please note: The focus of this request for information is the presentation of the Department's Open Government Plan document. Comments or suggestions for improvements to the Department's programs or activities in furtherance of open government will not be considered in connection with this request for information.

To learn more about the Department's commitment to open government and to access the seventh or previous versions of the Department's Open Government Plan, visit www.commerce.gov/open. To learn more about the fifth U.S. Open Government National Action Plan, visit: https://open.usa.gov/national-action-plan/5/.

Charles Cutshall,
Director, Office of Privacy and Open Government.

[FR Doc. 2024-17445 Filed 8-6-24; 8:45 am]

BILLING CODE 3510-17-P